DEPARTMENT OF COMMERCE

Patent and Trademark Office

[Docket No.: PTO-P-2022-0042]

Extension of the First-Time Filer Expedited Examination Pilot Program

AGENCY: Patent and Trademark Office, Commerce.

ACTION: Notice.

SUMMARY: On March 9, 2023, the United States Patent and Trademark Office (USPTO) implemented the First-Time Filer Expedited Examination Pilot Program, which permits patent applications from certain micro entity first-time filers to be advanced out of turn for examination and reviewed earlier (accorded special status). The pilot program was originally scheduled to end on March 11, 2024. In view of the continued interest in the program, the USPTO is extending it until either March 11, 2025, or until the date on which the USPTO grants a total of 1,000 petitions since the start of the pilot program, whichever occurs first. All pilot parameters will remain the same as those for the original pilot.

DATES:

Applicable Date: March 11, 2024.

Duration: The First-Time Filer Expedited Examination Pilot Program will continue to run until either March 11, 2025, or until the date on which the USPTO grants a total of 1,000 petitions since the start of the pilot program, whichever occurs first. Therefore, petitions to make special under the First-Time Filer Expedited Examination Pilot Program must be filed on or before March 11, 2025. The USPTO may further extend the pilot program (with or without modifications) or terminate it depending on factors such as workload and resources needed to administer the program, feedback from the public, and the effectiveness of the program. If the program is terminated, the USPTO will notify the public. The USPTO will continue to indicate the number of applications accepted into the program on the First-Time Filer Expedited Examination Pilot Program web page (www.uspto.gov/FirstTimePatentFiler).

FOR FURTHER INFORMATION CONTACT: Brannon Smith, Legal Advisor (571-270-1601 or Brannon.Smith@uspto.gov); or Susy Tsang-Foster, Senior Legal Advisor (571-272-7711 or susy.tsang-foster@uspto.gov), of the Office of Patent Legal Administration, Office of the Deputy Commissioner for Patent Examination Policy.

Questions regarding electronic application filing may be directed to the Patent Electronic Business Center at 866-217-9197 during its operating hours of 6 a.m. to midnight ET, Monday-Friday, or ebc@uspto.gov.

Questions regarding a filed petition to make special under this pilot may be directed to the Office of Petitions at 571-272-3282 during its operating hours of 8:30 a.m. to 5 p.m. ET, Monday-Friday.

SUPPLEMENTARY INFORMATION: The USPTO published a notice of the implementation of the First-Time Filer Expedited Examination Pilot Program on March 9, 2023. See First-Time Filer Expedited Examination Pilot Program, 88 FR 14607 (March 9, 2023) (First-Time Filer Notice). The pilot program is one of the initiatives under the USPTO's Council for Inclusive Innovation to increase access to the patent system for inventors who are new to the patent application process, including those in historically underserved geographic and economic areas. The First-Time Filer Notice established that micro entity first-time filers who meet the requirements specified in the notice may have their applications examined out of turn. The program was established under 37 CFR 1.102(d) without requiring either the 37 CFR 1.17(h) fee for a petition to make special or all conditions of the accelerated examination program set forth in section 708.02(a), subsection I, of the Manual of Patent Examining Procedure (9th Edition, Rev. 07.2022, February 2023).

The First-Time Filer Notice established that the pilot program would run until March 11, 2024. In view of the continued interest in the pilot program, the USPTO is hereby extending the program through March 11, 2025, or until the date on which the USPTO grants a total of 1,000 petitions since the start of the pilot program, whichever occurs first. The extension will also allow the USPTO to continue its evaluation of the pilot program. The requirements of the pilot program have not been modified.

Various stakeholders from around the world have filed petitions to participate in the pilot program—they include pro se inventors, middle school students, and small companies. To date, over 350 petitions requesting participation in the pilot program have been filed, over 130 applications have been accepted into the program, and more than 15 patents have been granted under the program. The USPTO may again extend the pilot program (with or without modifications) depending on the feedback from the participants, continued interest, and the effectiveness of the pilot program.

The USPTO maintains a web page for the First-Time Filer Expedited Examination Pilot Program (www.uspto.gov/FirstTimePatentFiler). The web page includes frequently asked questions, a recorded webinar about the program, and detailed information about how to apply. The web page further includes links to educational resources to help inventors become reasonably trained on the basics of the USPTO's patent application process. Interested parties are strongly encouraged to review all the resources available on the program web page prior to applying.

Katherine K. Vidal,
Under Secretary of Commerce for Intellectual Property and Director of the United States Patent and Trademark Office.

[FR Doc. 2024-05102 Filed 3-8-24; 8:45 am]

BILLING CODE 3510-16-P